Title 3—

The President

Proclamation 8606 of November 23, 2010

Thanksgiving Day, 2010

By the President of the United States of America

A Proclamation

A beloved American tradition, Thanksgiving Day offers us the opportunity to focus our thoughts on the grace that has been extended to our people and our country. This spirit brought together the newly arrived Pilgrims and the Wampanoag tribe—who had been living and thriving around Plymouth, Massachusetts for thousands of years—in an autumn harvest feast centuries ago. This Thanksgiving Day, we reflect on the compassion and contributions of Native Americans, whose skill in agriculture helped the early colonists survive, and whose rich culture continues to add to our Nation’s heritage. We also pause our normal pursuits on this day and join in a spirit of fellowship and gratitude for the year’s bounties and blessings.

Thanksgiving Day is a time each year, dating back to our founding, when we lay aside the troubles and disagreements of the day and bow our heads in humble recognition of the providence bestowed upon our Nation. Amidst the uncertainty of a fledgling experiment in democracy, President George Washington declared the first Thanksgiving in America, recounting the blessings of tranquility, union, and plenty that shined upon our young country. In the dark days of the Civil War when the fate of our Union was in doubt, President Abraham Lincoln proclaimed a Thanksgiving Day, calling for “the Almighty hand” to heal and restore our Nation.

In confronting the challenges of our day, we must draw strength from the resolve of previous generations who faced their own struggles and take comfort in knowing a brighter day has always dawned on our great land. As we stand at the close of one year and look to the promise of the next, we lift up our hearts in gratitude to God for our many blessings, for one another, and for our Nation. This Thanksgiving Day, we remember that the freedoms and security we enjoy as Americans are protected by the brave men and women of the United States Armed Forces. These patriots are willing to lay down their lives in our defense, and they and their families deserve our profound gratitude for their service and sacrifice.

This harvest season, we are also reminded of those experiencing the pangs of hunger or the hardship of economic insecurity. Let us return the kindness and generosity we have seen throughout the year by helping our fellow citizens weather the storms of our day.

As Americans gather for the time-honored Thanksgiving Day meal, let us rejoice in the abundance that graces our tables, in the simple gifts that mark our days, in the loved ones who enrich our lives, and in the gifts of a gracious God. Let us recall that our forebears met their challenges with hope and an unfailing spirit, and let us resolve to do the same.

NOW, THEREFORE, I, BARACK OBAMA, President of the United States of America, by virtue of the authority vested in me by the Constitution and the laws of the United States, do hereby proclaim Thursday, November 25, 2010, as a National Day of Thanksgiving. I encourage all the people of the United States to come together—whether in our homes, places of worship, community centers, or any place of fellowship for friends and neighbors—to give thanks for all we have received in the past year, to express appreciation to those whose lives enrich our own, and to share our bounty with others.

IN WITNESS WHEREOF, I have hereunto set my hand this twenty-third day of November, in the year of our Lord two thousand ten, and of the Independence of the United States of America the two hundred and thirty-fifth.

[FR Doc. 2010-30299

Filed 11-30-10; 8:45 am]

Billing code 3195-W1-P